DEPARTMENT OF TRANSPORTATION

Federal Aviation Administration

14 CFR Part 39

[Docket No. FAA-2015-2134; Directorate Identifier 2015-CE-012-AD]

RIN 2120-AA64

Airworthiness Directives; B/E Aerospace Protective Breathing Equipment Part Number 119003-11

AGENCY: Federal Aviation Administration (FAA), DOT.

ACTION: Supplemental notice of proposed rulemaking (NPRM); reopening of comment period.

SUMMARY: We are revising an earlier proposed airworthiness directive (AD) for certain B/E Aerospace protective breathing equipment (PBE) that is installed on airplanes. The NPRM proposed inspecting the PBE to determine if the pouch has the proper vacuum seal and replacing if necessary. The NPRM was prompted by reports of a compromise in the vacuum seal of the pouch that contains the PBE. This action revises the NPRM by requiring replacement of the PBE following newly issued service information regardless of inspection results. We are proposing this supplemental NPRM (SNPRM) to correct the unsafe condition on these products. Since these actions impose an additional burden over that proposed in the NPRM, we are reopening the comment period to allow the public the chance to comment on these proposed changes.

DATES: We must receive comments on this SNPRM by February 29, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed rule, contact B/E Aerospace, Inc., Commercial Aircraft Products Group, 10800 Pflumm Road, Lenexa, Kansas 66215; telephone: (913) 338-9800; fax: (913) 338-8419; Internet: www.beaerospace.com. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2015-2134; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: David Enns, Aerospace Engineer, Wichita Aircraft Certification Office, FAA, 1801 S. Airport Road, Room 100, Wichita, Kansas 67209; telephone: (316) 946-4147; fax: (316) 946-4107; email: david.enns@faa.gov.

SUPPLEMENTARY INFORMATION:

Comments Invited

We invite you to send any written relevant data, views, or arguments about this proposed AD. Send your comments to an address listed under the ADDRESSES section. Include “Docket No. FAA-2015-2134; Directorate Identifier 2015-CE-012-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 by adding an AD that would apply to certain B/E Aerospace protective breathing equipment (PBE) that is installed on airplanes. The NPRM published in the Federal Register on June 16, 2015 (80 FR 34330). The NPRM proposed to require inspecting the PBE to determine if the pouch has the proper vacuum seal and replacing if necessary.

Actions Since Previous NPRM Was Issued

Since we issued the NPRM (80 FR 34330, June 16, 2015), further investigation into the fire of the PBE, part number (P/N) 119003-11, found that the ignitor candles from the PBE units that caught fire had a breach of the filter in the candle assembly. The breach of the filter in the candle assembly allowed hot particles from the igniter candle to enter the oxygen rich environment of the PBE hood, which could cause a fire. All ignitor candles that were examined after fire events showed a breach in the filter. Due to the complexities involved with the chemical reaction within the candle, a definitive cause for the breached filters has not been identified. B/E Aerospace PBE, P/N 119003-21, contains a stainless steel mesh in the outlet path of the igniter candle. It has been established that the installation of the stainless steel mesh will prevent hot particles from entering the PBE hood as a result of a breached filter. Also, it was initially believed that the fire events occurred only with PBEs that had compromised vacuum sealed pouches. Two recent events occurred with PBEs that were reported by the operators to be in serviceable conditions, although the FAA and PBE manufacturer could not verify the condition of the pouch or PBE before the event. Therefore, we can no longer conclude that a PBE, P/N 119003-11, with an intact vacuum seal will prevent the possibility of spark and fire.

This condition, if not corrected, could result in the PBE catching fire.

Comments

We gave the public the opportunity to comment on the NPRM (80 FR 34330, June 16, 2015). The following presents the comments received on the NPRM (80 FR 34330, June 16, 2015) and the FAA's response to each comment.

Request To Change Cost of Compliance Section

B/E Aerospace, Inc. requested that the labor cost stated for doing the inspection be changed from .5 work-hour to .1 work-hour.

The commenter stated that the manpower specified in the related service bulletin for doing the inspection is 1 minute for 1 person. By comparison, the labor cost stated in the NPRM is .5 work-hour. The commenter believes that 0.5 work-hour is unreasonably long based on experience with the PBE. The commenter also stated that as a consequence, this aspect of the NPRM incorrectly suggests a substantial burden on the industry given the number of PBE units requiring the inspection.

The commenter requested that the labor cost for doing the inspection be changed to be consistent with the related service information.

We partially agree with the commenter. Even though we agree that it may take less than .5 work-hour to inspect the PBE, it is FAA practice to present labor cost in .5 work-hour increments. We have not changed this proposed AD based on this comment.

Request To Change Applicability

Airbus stated that the Applicability section should also include PBE, P/N 119003-21, all FAA-approved PBEs.

The commenter stated that the candle in PBE, P/N 119003-21, is identical to the one in PBE, P/N 119003-11, and the abnormal behavior of the candle is also possible on the PBE, P/N 119003-21. The remaining effects of a candle malfunction from a PBE, P/N 119003-21, are still not sufficiently known, e.g. functional aspects, heat, or generation of noxious gases. A compromised seal could also lead to a malfunction of a PBE, P/N 119003-21, or other FAA-approved PBEs as well.

The commenter requested that the inspections also apply to PBE, P/N 119003-21, and all other FAA-approved PBEs as well.

We do not agree with the commenter. Our investigation revealed that the cause of the unsafe condition has been limited to PBE, P/N 119003-11. The manufacturer has tested PBE, P/N 119003-21, with candle assemblies that had a breach in the filter. The PBE, P/N 119003-21, has been shown to stop hot particles from entering the hood and causing a fire. Due to additional testing and investigation, this proposed AD now requires replacing the PBE, P/N 119003-11, with a PBE, P/N 119003-21, or other FAA-approved PBE. We are still allowing inspecting the PBE, P/N 119003-11, until the required replacement time.

We have not changed this proposed AD based on this comment.

Request To Include Allowance for Minimum Equipment List (MEL) Relief

United Airlines requested incorporating existing MEL procedures into the AD.

The commenter stated that the proposed AD requires replacing a PBE that has a compromised vacuum seal before further flight. The commenter requested a revision to the AD to allow airplane operation with a minimum equipment list (MEL).

We agree with the commenter. An MEL is intended to permit operation with inoperative instruments or equipment for a period of time until repairs can be done. Repairs must be done at the earliest opportunity. To maintain an acceptable level of safety and reliability, the MEL establishes limitations on the duration of and conditions for operation with inoperative equipment.

We have changed this proposed AD based on this comment.

Related Service Information Under 1 CFR Part 51

We reviewed B/E Aerospace Service Bulletin No. 119003-35-011, Rev. 000, dated February 4, 2015, and Service Bulletin 119003-35-009, Rev. 009, dated November 9, 2015. The B/E Aerospace Service Bulletin No. 119003-35-011, Rev. 000, dated February 4, 2015, describes procedures for inspecting PBE, P/N 119003-11, to determine if the vacuum seal of the pouch containing the PBE is compromised. B/E Aerospace Service Bulletin 119003-35-009, Rev. 009, dated November 9, 2015, describes procedures for replacing PBE, P/N 119003-11, with P/N 119003-21. This service information is reasonably available because the interested parties have access to it through their normal course of business or by the means identified in the ADDRESSES section of this SNPRM.

FAA's Determination

We are proposing this SNPRM because we evaluated all the relevant information and determined the unsafe condition described previously is likely to exist or develop in other products of the same type design. Certain changes described above expand the scope of the NPRM (80 FR 34330, June 16, 2015). As a result, we have determined that it is necessary to reopen the comment period to provide additional opportunity for the public to comment on this SNPRM.

Proposed Requirements of This SNPRM

This SNPRM would require accomplishing the actions specified in the service information described previously, except as discussed under “Differences Between this SNPRM and the Service Information.

Differences Between This SNPRM and the Service Information

B/E Aerospace Service Bulletin No. 119003-35-011, Rev. 000, dated February 4, 2015, applies to all PBE with P/N 119003-11 and P/N 119003-21. We have determined that this proposed AD would apply only to a PBE with P/N 119003-11 with regard to the inspection requirement of paragraph (g) of this proposed AD. B/E Aerospace Service Bulletin 119003-35-009, Rev. 009, dated November 9, 2015, includes instructions for disposal. In this proposed AD, we are requiring only the replacement action.

Costs of Compliance

We estimate that this proposed AD affects 9,000 products installed on airplanes of U.S. registry.

We estimate the following costs to comply with this proposed AD:

Estimated Costs
Action | Labor cost | Parts cost | Cost per product | Cost on U.S. operators
Inspecting the pouch containing the PBE for proper vacuum seal | .5 work-hour × $85 per hour = $42.50 | Not applicable | $42.50 | $382,500
Replace the PBE P/N 119003-11 with a PBE P/N 119003-21 | .5 work-hour × $85 per hour = $42.50 | $1,510 | 1,552.50 | 13,972,500

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

B/E Aerospace: Docket No. FAA-2015-2134; Directorate Identifier 2015-CE-012-AD.

(a) Comments Due Date

We must receive comments by February 29, 2016.

(b) Affected ADs

None.

(c) Applicability

This AD applies to B/E Aerospace Protective Breathing Equipment (PBE), part number (P/N) 119003-11, that is installed on airplanes.

(d) Subject

Joint Aircraft System Component (JASC)/Air Transport Association (ATA) of America Code 35; Oxygen.

(e) Unsafe Condition

This AD was prompted by a report of a PBE, P/N 119003-11, catching fire upon activation by a crewmember. We are issuing this AD to correct the unsafe condition on these products.

(f) Compliance

Comply with this AD within the compliance times specified, unless already done.

(g) Inspection

Within 3 months after the effective date of this AD, while still in the stowage box, physically inspect the PBE pouch to determine if it has an intact vacuum seal. Do this inspection following paragraph III.A.1. of the Accomplishment Instructions in B/E Aerospace Service Bulletin No. 119003-35-011. Rev. 000, dated February 4, 2015.

(h) Replacement

(1) If a PBE pouch is found that does not have an intact vacuum seal during the inspection required in paragraph (g) of this AD: Before further flight or following existing minimum equipment list (MEL) procedures, replace the PBE with a PBE, P/N 119003-21, following paragraphs III.C., III.D.(4), III.D.(6), and III.D.(7) of the Accomplishment Instructions in B/E Aerospace Service Bulletin No. 119003-35-009, Rev. 000, dated November 9, 2015, or replace it with another FAA-approved serviceable PBE.

(2) If a PBE pouch is found during the inspection required in paragraph (g) of this AD where the vacuum seal is intact: Within 18 months after the effective date of this AD, remove PBE, P/N 119003-11, and replace the PBE with PBE, P/N 119003-21, following paragraphs III.C., III.D.(4), III.D.(6), and III.D.(7) of the Accomplishment Instructions in B/E Aerospace Service Bulletin No. 119003-35-009, Rev. 000, dated November 9, 2015, or replace it with another FAA-approved serviceable PBE.

(i) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD.

(2) Before using any approved AMOC, notify your appropriate principal inspector, or lacking a principal inspector, the manager of the local flight standards district office/certificate holding district office.

(j) Related Information

(1) For more information about this AD, contact David Enns, Aerospace Engineer, Wichita ACO, FAA, 1801 S. Airport Road, Room 100, Wichita, Kansas 67209; phone: (316) 946-4147; fax: (316) 946-4107; email: david.enns@faa.gov.

(2) For service information identified in this AD, contact B/E Aerospace, Inc., 10800 Pflumm Road, Commercial Aircraft Products Group, Lenexa, Kansas 66215; telephone: (913) 338-9800; fax: (913) 338-8419; Internet: www.beaerospace.com. You may review this referenced service information at the FAA, Small Airplane Directorate, 901 Locust, Kansas City, Missouri 64106. For information on the availability of this material at the FAA, call (816) 329-4148.

Issued in Kansas City, Missouri, on January 6, 2016.
Kelly Broadway,
Acting Manager, Small Airplane Directorate, Aircraft Certification Service.

[FR Doc. 2016-00374 Filed 1-14-16; 8:45 am]

BILLING CODE 4910-13-P